DEPARTMENT OF ENERGY

Federal Energy Regulatory Commission

Combined Notice of Filings #1

Take notice that the Commission received the following electric corporate filings:

Docket Numbers: EC24-41-000.

Applicants: Tri-State Generation and Transmission Association, Inc.

Description: Application for Authorization Under Section 203 of the Federal Power Act of Tri-State Generation and Transmission Association, Inc.

Filed Date: 1/16/24.

Accession Number: 20240116-5302.

Comment Date: 5 p.m. ET 2/6/24.

Docket Numbers: EC24-42-000.

Applicants: Hunterstown Gen Holdings, LLC, Kestrel Acquisition, LLC.

Description: Joint Application for Authorization Under Section 203 of the Federal Power Act of Hunterstown Gen Holdings, LLC, et al.

Filed Date: 1/16/24.

Accession Number: 20240116-5305.

Comment Date: 5 p.m. ET 2/6/24.

Take notice that the Commission received the following exempt wholesale generator filings:

Docket Numbers: EG21-97-001.

Applicants: Iris Solar, LLC.

Description: Iris Solar, LLC submits Notice of Change in Facts of Self-Certification of Exempt Wholesale Generator Status.

Filed Date: 1/11/24.

Accession Number: 20240111-5116.

Comment Date: 5 p.m. ET 2/1/24.

Docket Numbers: EG24-79-000.

Applicants: Bristol BESS, LLC.

Description: Bristol BESS, LLC submits Notice of Self-Certification of Exempt Wholesale Generator Status.

Filed Date: 1/16/24.

Accession Number: 20240116-5288.

Comment Date: 5 p.m. ET 2/6/24.

Docket Numbers: EG24-80-000.

Applicants: Morgan Energy Center, LLC.

Description: Morgan Energy Center, LLC submits Notice of Self-Certification of Exempt Wholesale Generator Status.

Filed Date: 1/17/24.

Accession Number: 20240117-5109.

Comment Date: 5 p.m. ET 2/7/24.

Docket Numbers: EG24-81-000.

Applicants: Decatur Solar Energy Center, LLC.

Description: Decatur Solar Energy Center, LLC submits Notice of Self-Certification of Exempt Wholesale Generator Status.

Filed Date: 1/17/24.

Accession Number: 20240117-5152.

Comment Date: 5 p.m. ET 2/7/24.

Docket Numbers: EG24-82-000.

Applicants: Washington County Solar, LLC.

Description: Washington County Solar, LLC submits Notice of Self-Certification of Exempt Wholesale Generator Status.

Filed Date: 1/17/24.

Accession Number: 20240117-5154.

Comment Date: 5 p.m. ET 2/7/24.

Take notice that the Commission received the following Complaints and Compliance filings in EL Dockets:

Docket Numbers:

EL24-55-000.

Applicants: Brainerd Solar, LLC.

Description: Petition for Declaratory Order of Brainerd Solar, LLC.

Filed Date: 1/16/24.

Accession Number: 20240116-5287.

Comment Date: 5 p.m. ET 2/15/24.

Take notice that the Commission received the following electric rate filings:

Docket Numbers: ER18-1918-004.

Applicants: Kestrel Acquisition, LLC.

Description: Request for Waiver, Expedited Consideration and Informational Filing Regarding Upstream Change in Control of Kestrel Acquisition, LLC.

Filed Date: 1/16/24.

Accession Number: 20240116-5306.

Comment Date: 5 p.m. ET 2/6/24.

Docket Numbers: ER22-2360-001.

Applicants: Tri-State Generation and Transmission Association, Inc.

Description: Compliance filing: Compliance Filing for Order No. 881 Managing Transmission Line Ratings to be effective 7/12/2025.

Filed Date: 1/17/24.

Accession Number: 20240117-5145.

Comment Date: 5 p.m. ET 2/7/24.

Docket Numbers: ER23-2171-002.

Applicants: Tri-State Generation and Transmission Association, Inc.

Description: Tariff Amendment: Response to Deficiency Letter, Request for Shortened Comment Period to be effective 1/1/2024.

Filed Date: 1/16/24.

Accession Number: 20240116-5247.

Comment Date: 5 p.m. ET 2/6/24.

Docket Numbers: ER24-483-001.

Applicants: Duke Energy Florida, LLC.

Description: Tariff Amendment: DEF-FMPA Amendment SA No. 148 to be effective 1/1/2024.

Filed Date: 1/16/24.

Accession Number: 20240116-5259.

Comment Date: 5 p.m. ET 2/6/24.

Docket Numbers: ER24-905-000.

Applicants: Hopi Utilities Corporation.

Description: Petition for Limited Waiver of Hopi Utilities Corporation.

Filed Date: 1/12/24.

Accession Number: 20240112-5201.

Comment Date: 5 p.m. ET 1/24/24.

Docket Numbers: ER24-918-000.

Applicants: Bristol BESS, LLC.

Description: Baseline eTariff Filing: Application for Market Based Rate Authority to be effective 3/16/2024.

Filed Date: 1/16/24.

Accession Number: 20240116-5246.

Comment Date: 5 p.m. ET 2/6/24.

Docket Numbers: ER24-919-000.

Applicants: Tri-State Generation and Transmission Association, Inc.

Description: § 205(d) Rate Filing: Filing of Gunnison Agreement to be effective 1/1/2024.

Filed Date: 1/16/24.

Accession Number: 20240116-5269.

Comment Date: 5 p.m. ET 2/6/24.

Docket Numbers: ER24-921-000.

Applicants: ITC Midwest LLC.

Description: § 205(d) Rate Filing: Filing of DTIA &#40;RS 232&#41;_JUA &#40;RS 233&#41;_Agency Agmt &#40;RS 234&#41 to be effective 3/18/2024.

Filed Date: 1/17/24.

Accession Number: 20240117-5033.

Comment Date: 5 p.m. ET 2/7/24.

Docket Numbers: ER24-922-000.

Applicants: Southwest Power Pool, Inc.

Description: § 205(d) Rate Filing: 3158R1 Basin Electric and MidAmerican Energy Att AO Cancel to be effective 12/31/2023.

Filed Date: 1/17/24.

Accession Number: 20240117-5037.

Comment Date: 5 p.m. ET 2/7/24.

Docket Numbers: ER24-923-000.

Applicants: Southwest Power Pool, Inc.

Description: § 205(d) Rate Filing: 3161R1 Basin Electric and MidAmerican Energy Att AO Cancel to be effective 12/31/2023.

Filed Date: 1/17/24.

Accession Number: 20240117-5043.

Comment Date: 5 p.m. ET 2/7/24.

Docket Numbers: ER24-924-000.

Applicants: Arizona Public Service Company.

Description: § 205(d) Rate Filing: Service Agreement No. 416, West Camp Wind LGIA to be effective 12/18/2023.

Filed Date: 1/17/24.

Accession Number: 20240117-5050.

Comment Date: 5 p.m. ET 2/7/24.

Docket Numbers: ER24-925-000.

Applicants: Wilderness Line Holdings, LLC.

Description: Compliance filing: Order No. 881 Compliance Filing to be effective 7/12/2025.

Filed Date: 1/17/24.

Accession Number: 20240117-5075.

Comment Date: 5 p.m. ET 2/7/24.

Docket Numbers: ER24-926-000.

Applicants: Mid-Atlantic Interstate Transmission, LLC, PJM Interconnection, L.L.C.

Description: § 205(d) Rate Filing: Mid-Atlantic Interstate Transmission, LLC submits tariff filing per 35.13(a)(2)(iii: FE PA submits one Construction Agreement, SA No. 6649 to be effective 3/18/2024.

Filed Date: 1/17/24.

Accession Number: 20240117-5098.

Comment Date: 5 p.m. ET 2/7/24.

Docket Numbers: ER24-927-000.

Applicants: Mid-Atlantic Interstate Transmission, LLC, PJM Interconnection, L.L.C.

Description: § 205(d) Rate Filing: Mid-Atlantic Interstate Transmission, LLC submits tariff filing per 35.13(a)(2)(iii: FE PA submits one Construction Agreement, SA No. 6926 to be effective 3/18/2024.

Filed Date: 1/17/24.

Accession Number: 20240117-5099.

Comment Date: 5 p.m. ET 2/7/24.

Docket Numbers: ER24-928-000.

Applicants: PJM Interconnection, L.L.C.

Description: § 205(d) Rate Filing: Amendment to 4 Service Agreements re: FirstEnergy Reorganization to be effective 1/1/2024.

Filed Date: 1/17/24.

Accession Number: 20240117-5112.

Comment Date: 5 p.m. ET 2/7/24.

Docket Numbers: ER24-929-000.

Applicants: PJM Interconnection, L.L.C.

Description: § 205(d) Rate Filing: Original ISA, Service Agreement No. 7155; Queue No. AE1-093 to be effective 12/18/2023.

Filed Date: 1/17/24.

Accession Number: 20240117-5155.

Comment Date: 5 p.m. ET 2/7/24.

Docket Numbers: ER24-930-000.

Applicants: Algonquin Tinker Gen Co.

Description: § 205(d) Rate Filing: Notice of Succession for MBR & Reactive Rate Tariffs to 2569848 Alberta ULC to be effective 12/28/2023.

Filed Date: 1/17/24.

Accession Number: 20240117-5159.

Comment Date: 5 p.m. ET 2/7/24.

Take notice that the Commission received the following qualifying facility filings:

Docket Numbers: QF24-194-000; EL24-55-000.

Applicants: Brainerd Solar, LLC, Brainerd Solar, LLC.

Description: Refund Report of Brainerd Solar, LLC.

Filed Date: 1/17/24.

Accession Number: 20240117-5157.

Comment Date: 5 p.m. ET 2/7/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 17, 2024.
Debbie-Anne A. Reese,
Acting Secretary.

[FR Doc. 2024-01267 Filed 1-22-24; 8:45 am]

BILLING CODE 6717-01-P